DEPARTMENT OF THE TREASURY

Office of Foreign Assets Control

Designation of Entities Pursuant to Executive Order 13413

AGENCY: Office of Foreign Assets Control, Treasury.

ACTION: Notice.

SUMMARY: The Treasury Department's Office of Foreign Assets Control (“OFAC”) is publishing the name of two entities whose property and interests in property have been blocked pursuant to Executive Order 13413 of October 27, 2006, “Blocking Property of Certain Persons Contributing to the Conflict in the Democratic Republic of Congo.”

DATES: The designation by the Director of OFAC of the two entities identified in this notice, pursuant to Executive Order 13413 of October 27, 2006, is effective on January 3, 2013.

FOR FURTHER INFORMATION CONTACT: Assistant Director for Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treas.gov/ofac) and via facsimile through a 24-hour fax-on demand service, tel.: (202) 622-0077.

Background

On October 27, 2006, the President signed Executive Order 13413 (the “Order” or “E.O. 13413”) pursuant to, inter alia, the International Emergency Economic Powers Act (50 U.S.C. 1701 et seq.) (IEEPA) and section 5 of the United Nations Participation Act, as amended (22 U.S.C. 287c) (UNPA). In the Order, the President found that the situation in or in relation to the Democratic Republic of the Congo constitutes an unusual and extraordinary threat to the foreign policy of the United States and imposed sanctions, and authorized additional sanctions, to address that threat.

Section 1 of the Order blocks, with certain exceptions, all property and interests in property that are in, or thereafter come within, the United States, or within the possession or control of United States persons, of the persons identified by the President in the Annex to the Order, as well as those persons determined by the Secretary of the Treasury, after consultation with the Secretary of State, to meet any of the criteria set forth in subparagraphs (a)(ii)(A)-(a)(ii)(G) of Section 1 of the Order.

On January 3, 2013, the Director of OFAC exercised the Secretary of the Treasury's authority to designate, pursuant to one or more of the criteria set forth in Section 1 of the Order, the two entities listed below, whose property and interests in property therefore are blocked pursuant to E.O. 13413. The listing of the blocked entities appears as follows:

1. FORCES DEMOCRATIQUES DE LIBERATION DU RWANDA (a.k.a. COMBATANT FORCE FOR THE LIBERATION OF RWANDA; a.k.a. DEMOCRATIC FORCES FOR THE LIBERATION OF RWANDA; a.k.a. FDLR; a.k.a. “FOCA”; a.k.a. FORCE COMBATTANTE ABACUNGUZI), North and South Kivu, Congo, Democratic Republic of the [DRCONGO]

2. M23 (a.k.a. ARMEE REVOLUTIONAIRE CONGOLAISE; a.k.a. CONGOLESE REVOLUTIONARY ARMY; a.k.a. MARCH 23 MOVEMENT; a.k.a. MOUVEMENT DU 23 MARS), North-Kivu, Congo, Democratic Republic of the; Web site www.m23mars.org [DRCONGO]

Dated: January 3, 2013.
Adam J. Szubin,
Director, Office of Foreign Assets Control.

[FR Doc. 2013-00549 Filed 1-11-13; 8:45 am]

BILLING CODE 4810-AL-P